DEPARTMENT OF THE INTERIOR

Bureau of Indian Affairs

[190A2100DD/AAKC001030/A0A51010.999900]

Proclaiming Certain Lands as Reservation for the Kickapoo Traditional Tribe of Texas

AGENCY: Bureau of Indian Affairs, Interior.

ACTION: Notice.

SUMMARY: This notice informs the public that the Assistant Secretary—Indian Affairs proclaimed approximately 46.87 acres, more or less, an addition to the reservation of the Kickapoo Traditional Tribe of Texas on December 21, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. These lands are proclaimed to be part of the Kickapoo Traditional Tribe of Texas' Reservation, in Maverick County, Texas.

Maverick County, Texas

Legal Descriptions Containing 46.87 Acres, More or Less

Wheeler (Tract 840 ST 1001)

Surface and surface rights only being a 21.83 acre retracement survey out of and part of William Johnson Survey 20, Abstract 723 Maverick County, Texas and being part of a tract shown as 19.8 acres on the plan of the Rio Grande Valley Lands Company recorded in Volume 5, Pages 100 of the Miscellaneous Records of Maverick County and being described in conveyance document to the Kickapoo Traditional Tribe of Texas recorded in Volume 960, Pages 326-328 of the Maverick County Official Public Records as Tract I—17.3 acres further described in Volume 44, Pages 371-373 of the Maverick County Deed Records and Tract II—2.86 acres further described in Volume 757, Pages 411-414 of the Maverick County Official Public Records, Maverick County, Texas and more particularly described by metes and bounds as follows: (The bearings and distances shown herein conform to the Texas Coordinate System, North American Datum 1983, Texas South Central Zone.) (All corners called for as being set are marked on the ground with ½″ steel stakes with plastic identification caps stamped “D. G. Smyth & Company/RPLS 2046” attached unless otherwise noted or shown.)

Beginning at a steel stake set at the North corner of a 753 acre tract described in conveyance to the Kickapoo Traditional Tribe of Texas recorded in Volume 609, Pages 471-484 of the Maverick County Official Public Records and the West corner of Lateral 50 described as Tract 1 in conveyance document to the Maverick County Water Control and Improvement District Number One recorded in Volume 34, Pages 413-414 of the Maverick County Deed Records for the Eastmost corner of the herein described tract; thence S45°26′12″ W for a distance of 1176.14 feet to the left bank of the Rio Grande for the Southmost point of the herein described tract from which a two inch iron pipe post found on the high band of the Rio Grande bears N44°43′07″ E at a distance of 44.33 feet and a found T-post bears N44°23′59″ E at a distance of 12.98 feet; thence N37°09′26″ W with the left bank of the Rio Grande for a distance of 51.72 feet to a point in the center of an arroyo at the Southmost point of a 125.43 acre tract described in conveyance document to the United States of America recorded in Volume 238, Pages 324-326 of the Maverick County Deed Records for a corner in the Northwest line of the herein described tract from which a two inch iron fence post found on the high bank of the Rio Grande bears N11°11′21″ W at a distance of 177.25 feet; thence Northerly along the center of said arroyo for the following nine (9) calls:

1. N16°52′00″ E for a distance of 209.53 feet to a point;

2. N39°28′55″ E for a distance of 126.91 feet to a point;

3. N02°04′29″ E for a distance of 90.01 feet to a point;

4. N32°25′53″ W for a distance of 184.57 feet to a point;

5. N35°57′12″ W for a distance of 70.62 feet to a point;

6. N20°21′46″ W for a distance of 139.29 feet to a point;

7. N48°03′24″ W for a distance of 195.60 feet to a point;

8. N20°09′02″ W for a distance of 174.41 feet to a point;

9. N01°49′48″ W for a distance of 263.28 feet to a point in the South line of Lot 2, Block 4 of the Riverside Acres Subdivision recorded in Envelope 72, Side A of the Maverick County Plat Records for the Westmost corner of the herein described tract from which a brass cap found at the West corner of said Lot 2, Block 4 and a reentrant corner of said 125.43 acre tract bears S45°28′56″ W at a distance of 120.09 feet; thence N45°28′56″ E with the Southeast line of said Lot 2 for a distance of 386.44 feet to a steel stake set at a South corner of a 17 acre tract described in conveyance document to Elias Soto, et ux. recorded in Volume 174, Pages 175-178 of the Maverick County Deed Records for an angle point in the Northwest line of the herein described tract; thence N46°03′06″ E generally with fence for a distance of 227.65 feet to a steel stake set at a reentrant corner of said 17 acre tract for the Northmost corner of the herein described tract; thence S36°04′04″ E with the Southwest line of said 17 acre tract and generally with fence for a distance of 1110.64 feet to a ½ inch steel stake found in the Northwest line of Rosita Gardens Road for an angle point in the Northeast line of the herein described tract; thence S42°51′12″ E for a distance of 50.03 feet to the Point of Beginning containing 21.83 acres of land as surveyed by D. G. Smyth & Co., Inc. on December 28, 2010, and in Maverick County, Texas containing 21.83 acres more or less.

Cary-Garza (Tract 840 ST 1002)

Surface and surface rights only, being a 25.04 acre retracement survey out of and part of Guadalupe De Los Santos Survey 21, Abstract 811 and William Johnson Survey 20, Abstract 723, Maverick County, Texas and being described as Lot 2, Block 4 of the Riverside Acres Subdivision recorded in Envelope 72, Side A of the Maverick County Plat Records in conveyance document to the Kickapoo Traditional Tribe of Texas recorded in Volume 893, Pages 415-417 of the Maverick County Official Public Records and more particularly described by metes and bounds as follows: (The bearings and distances shown herein conform to the Texas Coordinate System, North American Datum 1983, Texas South Central Zone.) (All corners called for as being set are marked on the ground with ½ inch steel stakes with plastic identification caps stamped “D. G. Smyth & Company/RPLS 2046” attached unless otherwise noted or shown.)

Beginning at a ½ inch steel stake set at an East corner of a 125.43 acre tract described in conveyance document to the United States of America recorded in Volume 241, Pages 405-407 of the Maverick County Deed Records at the South corner of Lot 1, Block 4 of said Riverside Acres Subdivision for a Northwest corner of the herein described tract from which a brass cap found at the Northerly corner of said 125.43 acres bears N44°37′12″ W at a distance of 906.16 feet; thence N53°01′50″ E with the Southeast line of said Lot 1 for a distance of 692.54 feet to a ½ inch steel stake set in the Southwest line of the 60 feet wide right of way of Lateral 50 operated by the Maverick County Water Control and Industrial District as shown on said plat of the Riverside Acres Subdivision for the North corner of the herein described tract; thence Southeasterly with the Southwest line of said Lateral 50 for the following five (5) calls:

1. S45°10′57″ E at 333.31 feet crossing into Survey 20 and continuing for a total distance of 370.64 feet to a ½ inch steel stake set;

2. S43°55′55″ E for a distance of 64.03 feet to a ½ inch steel stake set;

3. S48°54′39″ E for a distance of 120.66 feet to a ½ inch steel stake set;

4. S52°39′02″ E for a distance of 205.08 feet to a ½ inch steel stake set;

5. S36°30′41″ E for a distance of 109.55 feet to a ½ inch steel stake set at the North corner of 17 acre tract described in conveyance document to Elias Soto, et ux. recorded in Volume 174, Pages 175-178 of the Maverick County Deed Records for the East corner of the herein described tract; thence S47°16′19″ W with said 17 acre tract for a distance of 270.33 feet to a ½ inch steel stake set for a corner of the herein described tract; thence N36°04′41″ W continuing with said 17 acre tract for a distance of 227.71 feet to a ½ inch steel stake set for a reentrant corner of the herein described tract; thence N88°58′41″ W continuing with said 17 acre tract for a distance of 73.42 feet to a ½ inch steel stake set for a reentrant corner of the herein described tract; thence S16°46′29″ W continuing with said 17 acre tract for a distance of 300.08 feet to a ½ inch steel stake set for a reentrant corner of the herein described tract; thence S15°02′57″ E continuing with said 17 acre tract for a distance of 469.15 feet to a ½ inch steel stake set in the North line of a 17.3 acre tract called Tract 1 in conveyance document to the Kickapoo Traditional Tribe of Texas recorded in Volume 960, Pages 326-328 of the Maverick County Official Public Records and further described in Volume 44, Pages 371-373 of the Maverick County Deed Records for an East corner of the herein described tract; thence S45°28′56″ W with the Northwest line of said 17.3 acre tract, at 386.44 feet crossing an East corner of aforesaid 125.43 acres tract and continuing for a total distance of 506.53 feet to a brass cap found in the Northeast line of said 125.43 acres tract for the Southmost corner of the herein described tract; thence Northwesterly with the Northeast line of said 125.43 acres tract for the following six (6) calls:

1. N15°24′42″ W for a distance of 231.02 feet to a ½ inch steel stake set;

2. N78°26′42″ W for a distance of 55.01 feet to a found brass cap;

3. N25°19′42″ W for a distance of 296.03 feet to a found brass cap;

4. N61°21′42″ W at 286.10 feet crossing into Survey 21 and continuing for a total distance of 332.03 feet to a ½ inch steel stake set;

5. N18°59′42″ W for a distance of 162.62 feet to a ½ inch steel stake set;

6. N01°03′10″ W at for a distance of 207.32 feet to a found brass cap; thence N29°11′27″ E continuing now with the Southeast line of said 125.43 acre tract for a distance of 291.81 feet to the Point of Beginning containing 25.04 acres of land being 6.55 acres in Survey 21 and 18.49 acres in Survey 20 as surveyed by D. G. Smyth & Co. Inc. on December 28, 2010, and in Maverick County, Texas containing 25.04 acres more or less.

The above described lands contain a total of 46.87 acres, more or less, which are subject to all valid rights, reservations, rights-of-way, and easements of record.

This proclamation does not affect title to the lands described above, nor does it affect any valid existing easements for public roads and highways, public utilities, railroads, and pipelines, or any other valid easements or rights-of-way or reservations of record.

Dated: December 21, 2018.
Tara Sweeney,
Assistant Secretary—Indian Affairs.

[FR Doc. 2019-01833 Filed 2-8-19; 8:45 am]

BILLING CODE 4337-15-P